COUNCIL ON ENVIRONMENTAL QUALITY

National Environmental Policy Act Task Force

AGENCY: Council on Evironmental Policy.

ACTION: Notice of public meeting.

SUMMARY: The Rocky Mountain Regional NEPA Roundtable will be held on January 8 and 9, 2004. The Council on Environmental Quality (CEQ) established a National Environmental Policy Act (NEPA) Task Force to review the current NEPA implementing practices and procedures in the following areas: Technology and information management; Federal and intergovernmental collaboration; programmatic analyses and subsequent tiered documents; and adaptive management and monitoring. In addition, the NEPA Task Force reviewed other NEPA implementation issues such as the level of detail included in agencies' procedures and documentation for promulgating categorical exclusions; the structure and documentation of environmental assessments; and other implementation practices that would benefit Federal agencies.

“The Task Force Report to the Council on Environmental Quality—Modernizing NEPA Implementation” was published and presented to CEQ on September 24, 2003. The Report contains recommendations designed to improve federal agency decision making by modernizing the NEPA process. To further the work of the NEPA Task Force, CEQ is holding a series of regional public roundtables to raise public awareness of the NEPA Task Force draft recommendations and discuss the recommendations and their implementation. The Rocky Mountain Regional NEPA Roundtable will be held at the Copper Mountain Conference Center, Copper Mountain, Colorado. Information about the location is at http://www.whitehouse.gov/ceg or the NEPA Tak Force Web site at http://www.coppercolorado.com/meetings/site/virtual_tours The Rocky Mountain NEPA Roundtable is co-hosted by the Greater Yellowstone Coalition and the National Ski Area Assoction. Representatives from important constituent groups that have worked on NEPA issues have been invited to participate in a discussion of the recommendations.

DATES: The Rocky Mountain regional public roundtable will be held on January 8 and 9, 2004. The January 8 session will begin at 9 a.m. and interested members of the public will have an opportunity to present their views at 3:30 p.m. following the roundtable discussion. That session will end in the evening after public views have been presented. The session on January 9 will begin at 9 a.m. and interested members of the public will have and oportunity to present their views at 11 a.m. following the roundtable discussion.

ADDRESSES: Interested parties can review the Task Force report via the CEQ Web site at http://www.whitehouse.gov/ceq/ or the NEPA Task Force Web site at http:ceq.eh.doe.gov/ntf/. If you would like a printed copy, please mail a request to The NEPA Task Force, 722 Jackson Place, NW., Washington, DC 20585, or contact Bill Perhach at (202) 395-0826 to request a copy.

Dated: December 10, 2003.
James L. Connaughton,
Chairman, Council on Environmental Quality.

[FR Doc. 03-30946 Filed 12-15-03; 8:45 am]

BILLING CODE 3125-01-M